DEPARTMENT OF COMMERCE

International Trade Administration

[A-570-832]

Pure Magnesium from the People's Republic of China: Extension of Time for the Preliminary Results of the Antidumping Duty Administrative Review

AGENCY: Import Administration, International Trade Administration, Department of Commerce.

EFFECTIVE DATE: February 9, 2009.

FOR FURTHER INFORMATION CONTACT: Laurel LaCivita, AD/CVD Operations, Office 8, Import Administration, International Trade Administration, U.S. Department of Commerce, 14th Street and Constitution Avenue, NW, Washington, DC 20230; telephone: (202) 482-4243.

SUPPLEMENTARY INFORMATION:

Background

On May 5, 2008, the Department of Commerce (“the Department”) published in the Federal Register a notice for an opportunity to request an administrative review of the antidumping duty order on pure magnesium from the People's Republic of China (“PRC”). See Antidumping or Countervailing Duty Order, Finding, or Suspended Investigation; Opportunity to Request Administrative Review, 73 FR 24532 (May 5, 2008). Respondent, Tianjin Magnesium International Co., Ltd. (“TMI”), requested a review on May 29, 2008, and Petitioner, US Magnesium LLC (“US Magnesium”), requested a review of TMI on May 30, 2008. The Department published in the Federal Register a notice of initiation of an administrative review of TMI for the period May 1, 2007, through April 30, 2008. See Initiation of Antidumping and Countervailing Duty Administrative Reviews and Requests for Revocation in Part, 73 FR 37409 (July 1, 2008). Currently, the preliminary results of review are due no later than January 31, 2009.

Extension of Time Limit of Preliminary Results.

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period.

We determine that completion of the preliminary results of this review within the 245-day period is not practicable because the Department requires additional time to analyze information pertaining to the respondent's sales practices, factors of production, and to issue and review responses to supplemental questionnaires. Therefore, we require additional time to complete these preliminary results. As a result, in accordance with section 751(a)(3)(A) of the Act, the Department is extending the time period for completion of the preliminary results of this review by 120 days until May 31, 2009.

This notice is published in accordance with sections 751(a)(3)(A) and 777(i) of the Act.

Dated: January 30, 2009.
John M. Andersen,
Acting Deputy Assistant Secretary for Import Administration.

[FR Doc. E9-2641 Filed 2-6-09; 8:45 am]

BILLING CODE 3510-DS-S